SECURITIES AND EXCHANGE COMMISSION

[File No. 500-1]

In the Matter of Conquest Petroleum Inc. and Nexaira Wireless Inc.; Order of Suspension of Trading

August 6, 2014.

It appears to the Securities and Exchange Commission that there is a lack of current and accurate information concerning the securities of Conquest Petroleum Inc. because it has not filed any periodic reports since the period ended September 30, 2011.

It appears to the Securities and Exchange Commission that there is a lack of current and accurate information concerning the securities of Nexaira Wireless Inc. because it has not filed any periodic reports since the period ended July 31, 2011.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on August 6, 2014, through 11:59 p.m. EDT on August 19, 2014.

By the Commission.
Kevin M. O'Neill,
Deputy Secretary.

[FR Doc. 2014-18915 Filed 8-6-14; 11:15 am]

BILLING CODE 8011-01-P